DEPARTMENT OF COMMERCE

International Trade Administration

[A-351-837, A-533-828, A-588-068, A-580-852, A-201-831, A-549-820, C-533-829]

Prestressed Concrete Steel Wire Strand From Brazil, India, Japan, the Republic of Korea, Mexico, and Thailand: Continuation of the Antidumping Duty Finding/Orders and Countervailing Duty Order

AGENCY: Enforcement and Compliance, International Trade Administration, Department of Commerce.

SUMMARY: The Department of Commerce (the Department) and the International Trade Commission (the ITC) have determined that revocation of the antidumping duty (AD) finding on prestressed concrete steel wire strand (PC strand) from Japan, and the AD orders on PC strand from Brazil, India, the Republic of Korea, Mexico, and Thailand, would likely lead to continuation or recurrence of dumping and material injury to an industry in the United States. The Department and the ITC have also determined that revocation of the countervailing duty (CVD) order on PC strand from India would likely lead to continuation or recurrence of net countervailable subsidies and material injury to an industry in the United States. Therefore, the Department is publishing a notice of continuation for these AD finding/orders and CVD order.

DATES: Effective Dates: April 23, 2015.

FOR FURTHER INFORMATION CONTACT: Michael Romani, AD/CVD Operations, Office I (AD Orders), or Mandy Mallott, AD/CVD Operations, Office III, Enforcement and Compliance, International Trade Administration, U.S. Department of Commerce, 14th Street and Constitution Avenue NW., Washington, DC 20230; telephone: (202) 482-0198 or (202) 482-6430, respectively.

SUPPLEMENTARY INFORMATION:

Background

On November 3, 2014, the Department initiated ¹ and the ITC instituted ² five-year (sunset reviews) of the AD finding on PC strand from Japan,³ the AD orders on PC strand from Brazil, India, the Republic of Korea, Mexico, and Thailand,⁴ and the CVD order on PC strand from India,⁵ pursuant to sections 751(c) of the Tariff Act of 1930, as amended (the Act). As a result of its reviews, the Department determined that revocation of the AD finding/orders would likely lead to continuation or recurrence of dumping and that revocation of the CVD order would likely lead to continuation or recurrence of net countervailable subsidies, and therefore, notified the ITC of the magnitude of the margins and the subsidy rates likely to prevail should the finding/orders be revoked, pursuant to sections 751(c)(1) and 752(b) and (c) of the Act.⁶

¹ See Initiation of Five-Year (“Sunset”) Review, 79 FR 65186 (November 3, 2014).

² See Prestressed Concrete Steel Wire Strand From Brazil, India, Japan, Korea, Mexico, and Thailand; Institution of Five-Year Reviews, 79 FR 65246 (November 3, 2014).

³ See Steel Wire Strand for Prestressed Concrete from Japan; Finding of Dumping, 43 FR 57599 (December 8, 1978) conducted by the Treasury Department (at that time a determination of dumping resulted in a “finding” rather than the later applicable “order”).

⁴ See (1) Notice of Antidumping Duty Order: Prestressed Concrete Steel Wire Strand from Brazil, 69 FR 4112 (January 28, 2004); (2) Notice of Antidumping Duty Order: Prestressed Concrete Steel Wire Strand from India, 69 FR 4110 (January 28, 2004); (3) Steel Wire Strand for Prestressed Concrete from Japan; Finding of Dumping, 43 FR 57599 (December 8, 1978); (4) Notice of Antidumping Duty Order: Prestressed Concrete Steel Wire Strand from the Republic of Korea, 69 FR 4109 (January 28, 2004); (5) Notice of Antidumping Duty Order: Prestressed Concrete Steel Wire Strand from Mexico, 69 FR 4112 (January 28, 2004); and (6) Notice of Amended Final Determination of Sales at Less Than Fair Value and Antidumping Duty Order: Prestressed Concrete Steel Wire Strand from Thailand, 69 FR 4111 (January 28, 2004).

⁵ See Countervailing Duty Order: Prestressed Concrete Steel Wire Strand From India, 69 FR 5319 (February 4, 2004).

⁶ See Prestressed Concrete Steel Wire Strand from Brazil, India, Japan, the Republic of Korea, Mexico, and Thailand: Final Results of the Expedited Sunset Reviews of the Antidumping Duty Finding/Orders, 80 FR 13827 (March 17, 2015), and Final Results of Expedited Sunset Review of Countervailing Duty Order: Prestressed Concrete Steel Wire Strand from India, 80 FR 12804 (March 11, 2015).

On April 15, 2015, the ITC published its determination that revocation of the AD finding on PC strand from Japan, the AD orders on PC strand from Brazil, India, the Republic of Korea, Mexico, and Thailand, and the CVD order on PC strand from India would likely lead to continuation or recurrence of material injury to an industry in the United States within a reasonably foreseeable time, pursuant to sections 751(c) of the Act.⁷

⁷ See Prestressed Concrete Steel Wire Strand from Brazil, India, Japan, Korea, Mexico, and Thailand, 80 FR 20244 (April 15, 2015).

Scope of the Order

The product covered in the sunset reviews of the antidumping duty orders on PC strand from Brazil, India, Korea, Mexico, and Thailand and the countervailing duty order on PC strand from India is steel strand produced from wire of non-stainless, non-galvanized steel, which is suitable for use in prestressed concrete (both pre-tensioned and post-tensioned) applications. The product definition encompasses covered and uncovered strand and all types, grades, and diameters of PC strand.

The product covered in the sunset review of the antidumping duty finding on PC strand from Japan is steel wire strand, other than alloy steel, not galvanized, which is stress-relieved and suitable for use in prestressed concrete.

The merchandise subject to the finding/orders is currently classifiable under subheadings 7312.10.3010 and 7312.10.3012 of the Harmonized Tariff Schedule of the United States (HTSUS). Although the HTSUS subheadings are provided for convenience and customs purposes, the written description of the merchandise under the finding/orders is dispositive.

Continuation of the Finding/Orders

As a result of the determinations by the Department and the ITC that revocation of the AD finding/orders would likely lead to a continuation or recurrence of dumping and material injury to an industry in the United States and that revocation of the CVD order would likely lead to continuation or recurrence of countervailable subsidies and material injury to an industry in the United States, pursuant to section 75l(d)(2) of the Act and 19 CFR 351.218(a), the Department hereby orders the continuation of the AD finding on PC strand from Japan, the AD orders on PC strand from Brazil, India, the Republic of Korea, Mexico, and Thailand, and the CVD order on PC strand from India. U.S. Customs and Border Protection will continue to collect AD and CVD cash deposits at the rates in effect at the time of entry for all imports of subject merchandise.

The effective date of the continuation of the AD finding/orders and CVD order will be the date of publication in the Federal Register of this notice of continuation. Pursuant to section 751(c)(2) of the Act and 19 CFR 351.218(c)(2), the Department intends to initiate the next five-year review of these finding/orders not later than 30 days prior to the fifth anniversary of the effective date of this continuation notice.

These five-year sunset reviews and this notice are in accordance with section 751(c) of the Act and published pursuant to section 777(i)(1) of the Act and 19 CFR 351.218(f)(4).

Dated: April 17, 2015.
Paul Piquado,
Assistant Secretary for Enforcement and Compliance.

[FR Doc. 2015-09528 Filed 4-22-15; 8:45 am]

BILLING CODE 3510-DS-P